DEPARTMENT OF STATE

[Public Notice 10404]

United States-Morocco Working Group on Environmental Cooperation Meeting and Public Session

AGENCY: Department of State.

ACTION: Announcement of meetings; solicitation of suggestions; invitation to public session.

SUMMARY: The Department of State is providing notice that the governments of the United States and Kingdom of Morocco (the governments) intend to hold a meeting of the United States-Morocco Working Group on Environmental Cooperation (Working Group) and a public session in Rabat, Morocco, on May 11, 2018, to discuss implementation of the Joint Statement on Environmental Cooperation (Joint Statement).

During the meetings, the governments will discuss how the United States and Morocco can work together to protect and conserve the environment, highlight past bilateral environmental cooperation, review activities under the 2014-2017 Plan of Action, and approve a 2018-2021 Plan of Action.

The Department of State invites members of the public to submit written suggestions on items to include on the meeting agenda and in the 2018-2021 Plan of Action. The Department of State also invites interested persons to attend a public session where the public will have the opportunity to ask about implementation of the Joint Statement.

DATES: The public session will be held on May 11, 2018, in Rabat, Morocco. Suggestions on the meeting agenda and/or the 2018-2021 Plan of Action should be provided no later than May 8, 2018, to facilitate consideration.

ADDRESSES: Those interested in attending the public session should email Eloise Canfield at CanfieldME@state.gov to find out the time and location of the session. Suggestions on the meeting agenda and/or the 2018-2021 Plan of Action should be emailed to CanfieldME@state.gov or faxed to Eloise Canfield at (202) 647-5947, with the subject line “United States-Morocco Environmental Cooperation.”

FOR FURTHER INFORMATION CONTACT: Eloise Canfield, (202) 647-4750 or CanfieldME@state.gov.

SUPPLEMENTARY INFORMATION: In the Joint Statement, the governments of the United States and Morocco indicate their intent “to pursue efforts to enhance bilateral environmental cooperation . . . .” In paragraph 5 of the Joint Statement, the governments established the Working Group to coordinate and review environmental cooperation activities. As envisioned in the Joint Statement, the Working Group develops Plans of Action, reviews and assesses cooperative environmental activities pursuant to the Plan of Action, recommends ways to improve such cooperation, and undertakes such other activities as may seem appropriate to the governments.

Through this notice, the United States is soliciting the views of the public with respect to the 2018-2021 Plan of Action. Members of the public, including NGOs, educational institutions, private sector enterprises, and all other interested persons are invited to submit written suggestions regarding items for inclusion in the meeting agendas or in the 2018-2021 Plan of Action. Please include your full name and identify any organization or group you represent. We encourage submitters to refer to:

• United States-Morocco Joint Statement on Environmental Cooperation;

• 2014-2017 Plan of Action Pursuant to the United States-Morocco Joint Statement on Environmental Cooperation;

These documents are available at: http://www.state.gov/e/oes/eqt/trade/morocco/index.htm.

Brian P. Doherty,
Director, Office of Environmental Quality and Transboundary Issues, Department of State.

[FR Doc. 2018-09378 Filed 5-2-18; 8:45 am]

BILLING CODE 4710-09-P